DEPARTMENT OF TRANSPORTATION

Federal Aviation Administration

14 CFR Part 39

[Docket No. FAA-2005-20276; Directorate Identifier 2005-NM-023-AD; Amendment 39-13979; AD 2005-04-07]

RIN 2120-AA64

Airworthiness Directives; Bombardier Model CL-600-2B19 (Regional Jet Series 100 & 440) Airplanes and Model CL-600-1A11 (CL-600), CL-600-2A12 (CL-601), and CL-600-2B16 (CL-601-3A, CL-601-3R, and CL-604) Series Airplanes

AGENCY: Federal Aviation Administration (FAA), Department of Transportation (DOT).

ACTION: Final rule; request for comments.

SUMMARY: The FAA is adopting a new airworthiness directive (AD) for all Bombardier Model CL-600-2B19 (Regional Jet Series 100 & 440) airplanes and Model CL-600-1A11 (CL-600), CL-600-2A12 (CL-601), and CL-600-2B16 (CL-601-3A, CL-601-3R, and CL-604) series airplanes. This AD requires revising the airplane flight manuals to include a new cold weather operations limitation. This AD is prompted by a report that even small amounts of frost, ice, snow, or slush on the wing leading edges or forward upper wing surfaces can cause an adverse change in the stall speeds, stall characteristics, and the protection provided by the stall protection system. We are issuing this AD to prevent possible loss of control on take-off resulting from even small amounts of frost, ice, snow, or slush on the wing leading edges or forward upper wing surfaces.

DATES: Effective February 22, 2005.

The incorporation by reference of certain publications listed in the AD is approved by the Director of the Federal Register as of February 22, 2005.

We must receive comments on this AD by April 18, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For the temporary revisions identified in this AD, contact Bombardier, Inc., Canadair, Aerospace Group, P.O. Box 6087, Station Centre-ville, Montreal, Quebec H3C 3G9, Canada. You can examine this information at the National Archives and Records Administration (NARA). For information on the availability of this material at NARA, call (202) 741-6030, or go to: http://www.archives.gov/federal_register/code_of_federal_regulations/ibr_locations.html.

You can examine the contents of this AD docket on the Internet at http://dms.dot.gov, or in person at the Docket Management Facility, U.S. Department of Transportation, 400 Seventh Street SW., room PL-401, on the plaza level of the Nassif Building, Washington, DC. This docket number is FAA-2005-20276; the directorate identifier for this docket is 2005-NM-023-AD.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT: Bruce Valentine, Aerospace Engineer, Systems and Flight Test Branch, ANE-172, FAA, New York Aircraft Certification Office, 1600 Stewart Avenue, Suite 410, Westbury, New York 11590; telephone (516) 228-7328; fax (516) 794-5531.

SUPPLEMENTARY INFORMATION: Transport Canada Civil Aviation (TCCA), which is the airworthiness authority for Canada, notified the FAA that an unsafe condition may exist under certain operating conditions on all Bombardier Model CL-600-2B19 (Regional Jet Series 100 & 440) airplanes and Model CL-600-1A11 (CL-600), CL-600-2A12 (CL-601), and CL-600-2B16 (CL-601-3A, CL-601-3R, and CL-604) series airplanes. TCCA advises that even small amounts of frost, ice, snow, or slush on the wing leading edges or forward upper wing surfaces of these airplanes can cause an unsafe condition where an adverse change in the stall speeds, stall characteristics, and the protection provided by the stall protection system may result in reduced controllability of the airplane. TCCA advises that cold weather operational requirements for the subject airplane flight manuals should include wing leading edge and upper wing surface inspections using visual and tactile means in identifying potential contamination by frost, ice, snow, or slush.

Relevant Temporary Revision Information

Bombardier has issued temporary revisions (TRs) to the applicable Bombardier airplane flight manuals (AFMs) as listed in the following table. The TRs include a new take-off limitation to emphasize the requirement for an aerodynamically clean airplane during cold weather operations. The TRs specify that, in addition to a visual check, a tactile check must be done to determine that the wing is free from frost, ice, snow, or slush when certain weather conditions exist.

Table—TRs
Bombardier model | TR | AFM
CL-600-1A11 (CL-600) series airplanes | 600/21, February 4, 2005 | PSP 600 (US)
CL-600-1A11 (CL-600) series airplanes | 600-1/16, February 4, 2005 | PSP 600-1 (US)
CL-600-2A12 (CL-601) series airplanes | 601/13, February 4, 2005 | PSP 601-1B-1
CL-600-2A12 (CL-601) series airplanes | 601/14, February 4, 2005 | PSP 601-1A-1
CL-600-2A12 (CL-601) series airplanes | 601/18, February 4, 2005 | PSP 601-1B
CL-600-2A12 (CL-601) series airplanes | 601/26, February 4, 2005 | PSP 601-1A
CL-600-2B16 (CL-601-3A and CL-601-3R) series airplanes | 601/24, February 4, 2005 | PSP 601A-1
CL-600-2B16 (CL-601-3A and CL-601-3R) series airplanes | 601/25, February 4, 2005 | PSP 601A-1-1
CL-600-2B16 (CL-604) series airplanes | 604/17, February 4, 2005 | PSP 604-1
CL-600-2B19 (Regional Jet Series 100 & 440) | RJ/149-1, February 1, 2005 | CSP A-012

Accomplishing the actions specified in the TRs is intended to ensure the applicable airplane is operated in a safe condition. TCCA mandated the TRs and issued Canadian airworthiness directives CF-2005-01, dated February 2, 2005, and CF-2005-03, dated February 8, 2005, to ensure the continued airworthiness of these airplanes in Canada.

FAA's Determination and Requirements of This AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for products of this type design that are certificated for operation in the United States.

Therefore, we are issuing this AD to prevent possible loss of control on take-off resulting from even small amounts of frost, ice, snow, or slush on the wing leading edges or forward upper wing surfaces. This AD requires revising the airplane flight manuals to include a new cold weather operations limitation.

Differences Between This AD and the Canadian Airworthiness Directives

Due to the degree of urgency associated with the subject unsafe condition, this AD specifies a compliance time of within 5 days after the effective date of this AD in order to closely coincide with the compliance times specified in the Canadian airworthiness directives. Canadian airworthiness directive CF-2005-01 specifies a compliance time of within 14 days after February 2, 2005 (the effective date of Canadian airworthiness directive CF-2005-01). Canadian airworthiness directive CF-2005-03 specifies a compliance time of within 14 days after February 8, 2005 (the effective date of Canadian airworthiness directive CF-2005-03).

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2005-20276; Directorate Identifier 2005-NM-023-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-04-07 Bombardier, Inc. (Formerly Canadair): Amendment 39-13979. Docket No. FAA-2005-20276; Directorate Identifier 2005-NM-023-AD.

Effective Date

(a) This AD becomes effective February 22, 2005.

Affected ADs

(b) None.

Applicability

(c) This AD applies to all Bombardier Model CL-600-2B19 (Regional Jet Series 100 & 440) airplanes and Model CL-600-1A11 (CL-600), CL-600-2A12 (CL-601), and CL-600-2B16 (CL-601-3A, CL-601-3R, & CL-604) series airplanes; certificated in any category.

Unsafe Condition

(d) This AD was prompted by a report that even small amounts of frost, ice, snow, or slush on the wing leading edges or forward upper wing surfaces can cause an adverse change in the stall speeds, stall characteristics, and the protection provided by the stall protection system. The FAA is issuing this AD to prevent possible loss of control on take-off resulting from even small amounts of frost, ice, snow, or slush on the wing leading edges or forward upper wing surfaces.

Compliance

(e) You are responsible for having the actions required by this AD performed within the compliance times specified, unless the actions have already been done.

Revision to Airplane Flight Manual (AFM)

(f) Within 5 days after the effective date of this AD, revise the applicable Bombardier AFMs, Chapter 2 Limitations—Operating Limitations section, by inserting a copy of the new cold weather operations limitation specified in the Canadair (Bombardier) temporary revisions (TRs) listed in Table 1 of this AD. Thereafter, operate the airplanes per the limitation specified in the applicable TR, except as provided by paragraph (g) of this AD.

Table 1.—TRs
Bombardier model | TR | AFM
CL-600-1A11 (CL-600) series airplanes | 600/21, February 4, 2005 | PSP 600 (US)
CL-600-1A11 (CL-600) series airplanes | 600-1/16, February 4, 2005 | PSP 600-1 (US)
CL-600-2A12 (CL-601) series airplanes | 601/13, February 4, 2005 | PSP 601-1B-1
CL-6002A12 (CL-601) series airplanes | 601/14, February 4, 2005 | PSP 601-1A-1
CL-600-2A12 (CL-601) series airplanes | 601/18, February 4, 2005 | PSP 601-1B
CL-600-2A12 (CL-601) series airplanes | 601/26, February 4, 2005 | PSP 601-1A
CL-600-2B16 (CL-601-3A and CL-601-3R) series airplanes | 601/24, February 4, 2005 | PSP 601A-1
CL-600-2B16 (CL-601-3A and CL-601-3R) series airplanes | 601/25, February 4, 2005 | PSP 601A-1-1
CL-600-2B16 (CL-604) series airplanes | 604/17, February 4, 2005 | PSP 604-1
CL-600-2B19 (Regional Jet Series 100 & 440) | RJ/149-1, February 1, 2005 | CSP A-012

Note 1: When information identical to that in a TR specified in paragraph (f) of this AD has been included in the general revisions of the applicable AFM, the general revisions may be inserted into the AFM, and the TR may be removed from that AFM.

Alternative Methods of Compliance (AMOCs)

(g) The Manager, New York Aircraft Certification Office, FAA, has the authority to approve AMOCs for this AD, if requested in accordance with the procedures found in 14 CFR 39.19.

Related Information

(h) Canadian airworthiness directives CF-2005-01, dated February 2, 2005, and CF-2005-03, dated February 8, 2005, also address the subject of this AD.

Material Incorporated by Reference

(i) You must use the Canadair (Bombardier) temporary revisions to the applicable Bombardier airplane flight manuals specified in Table 2 of this AD to perform the actions that are required by this AD, unless the AD specifies otherwise. The Director of the Federal Register approves the incorporation by reference of this document in accordance with 5 U.S.C. 552(a) and 1 CFR part 51. For copies of the temporary revisions, contact Bombardier, Inc., Canadair, Aerospace Group, P.O. Box 6087, Station Centre-ville, Montreal, Quebec H3C 3G9, Canada. You can review copies at the Docket Management Facility, U.S. Department of Transportation, 400 Seventh Street SW., room PL-401, Nassif Building, Washington, DC; or at the National Archives and Records Administration (NARA). For information on the availability of this material at NARA, call (202) 741-6030, or go to http://www.archives.gov/federal_register/code_of_federal_regulations/ibr_locations.html.

Table 2.—Material Incorporated by Reference
Temporary revision | Airplane flight manual
RJ/149-1, February 1, 2005 | CL-600-2B19 (Regional Jet Series 100 & 440), CSP A-012
600/21, February 4, 2005 | CL-600-1A11 (CL-600), PSP 600 (US)
600-1/16, February 4, 2005 | CL-600-1A11 (CL-600), PSP 600-1 (US)
601/13, February 4, 2005 | CL-600-2A12 (CL-601), PSP 601-1B-1
601/14, February 4, 2005 | CL-600-2A12 (CL-601), PSP 601-1A-1
601/18, February 4, 2005 | CL-600-2A12 (CL-601), PSP 601-1B
601/24, February 4, 2005 | CL-600-2B16 (CL-601-3A and CL-601-3R), PSP 601A-1
601/25, February 4, 2005 | CL-600-2B16 (CL-601-3A and CL-601-3R), PSP 601A-1-1
601/26, February 4, 2005 | CL-600-2A12 (CL-601), PSP 601-1A
604/17, February 4, 2005 | CL-600-2B16 (CL-604), PSP 604-1

Issued in Renton, Washington, on February 10, 2005.
Kalene C. Yanamura,
Acting Manager, Transport Airplane Directorate, Aircraft Certification Service.

[FR Doc. 05-2964 Filed 2-16-05; 8:45 am]

BILLING CODE 4910-13-P